DEPARTMENT OF TRANSPORTATION

Corridors of the Future Program

AGENCY: Department of Transportation (DOT).

ACTION: Notice; request for applications.

SUMMARY: The purpose of this notice is to solicit applications from interested parties to participate in the Corridors of the Future Program (CFP) selection process. The goal of the CFP is to accelerate the development of multi-State transportation Corridors of the Future for one or more transportation modes, by selecting up to 5 major transportation corridors in need of investment for the purpose of reducing congestion. The Federal government has an important role to play in facilitating and accelerating multi-State investments. States are encouraged to work together and with private sector partners to develop multi-State corridor proposals to advance project development and seek alternative financial opportunities. CFP projects may augment an existing transportation corridor or may develop entirely new facilities.

Applications will be submitted in a two-step process. In the first step, the Applicant will submit a Corridor Proposal (Proposal) containing general information about the proposed Corridor project (Corridor). A Proposal may be submitted by one State, multiple States, or a private sector entity, and at this stage does not require the concurrence of all affected States. After the Proposal has been reviewed, the Applicant may be asked to proceed to the second step in the process by submitting an Application with more detailed information about the project.

DATES: Proposals must be received on or before October 23, 2006. The due date for Applications will be April 2, 2007.

ADDRESSES: Interested parties should submit Proposals to Mr. James D. Ray, Chief Counsel, Federal Highway Administration, 400 Seventh Street, SW., Room 4213, Washington, DC 20590 or electronically to corridorsofthefuture@dot.gov.

FOR FURTHER INFORMATION CONTACT: Mr. Michael W. Harkins, Attorney-Advisor, (202) 366-4928 (michael.harkins@dot.gov), or Ms. Alla C. Shaw, Attorney-Advisor, (202) 366-1042 (alla.shaw@dot.gov), Federal Highway Administration, Office of the Chief Counsel, 400 Seventh Street, SW., Room 4230, Washington, DC 20590. Office hours are from 7:30 a.m. to 5 p.m., e.t., Monday through Friday, except Federal holidays.

SUPPLEMENTARY INFORMATION:

Electronic Access and Filing

An electronic copy of this document may also be downloaded from the Office of the Federal Register's home page at: http://www.archives.gov and the Government Printing Office's Web page at: http://www.access.gpo.gov/nara.

Background

The DOT is establishing a Corridors of the Future selection process to accelerate the development of multi-State, and possibly multi-use, transportation corridors to help reduce congestion. The DOT is seeking applications from either public or private sector entities to identify and advance multi-State transportation corridor investments that can alleviate current or forecasted congestion. Through this selection process, the DOT will select up to 5 Corridors in need of investment.

Congestion is one of the single largest threats to America's economic prosperity and way of life. Former Secretary of Transportation Norman Y. Mineta framed the problem earlier this year:

If power blackouts drained billions of dollars from the economy each year, it would be considered a crisis of unacceptable proportion. Yet many accept the fact that Americans squander 3.7 billion hours and 2.3 billion gallons of fuel each year sitting in traffic jams and waste $9.4 billion as a result of airline delays. Even worse, congestion takes a major bite out of our day—time that could be spent with families, friends, and neighbors.¹

¹ Remarks made by Secretary Mineta to the National Retail Federation, May 16, 2006.

Congestion now draws close to $200 billion per year from the U.S. economy.

In an effort to combat the growing problems of congestion, Secretary Mineta launched the DOT's “National Strategy to Reduce Congestion on America's Transportation Network” in May 2006. The Strategy consists of a 6-point plan, including the Corridors of the Future selection process, designed both to reduce congestion in the short-term and to build the foundation for successful longer-term congestion reduction efforts.²

² In addition to the Corridors of the Future selection process, the “National Strategy to Reduce Congestion on America's Transportation Network” also includes the following five areas of emphasis: (1) Relieve urban congestion; (2) Unleash private sector investment resources; (3) Promote operational and technological improvements; (4) Target major freight bottlenecks and expand freight policy outreach; and (5) Accelerate major aviation capacity projects and provide a future funding framework for the aviation system.

Objectives

The primary objectives of the CFP are to:

A. Promote innovative national and regional approaches to congestion mitigation.

B. Address major transportation investment needs.

C. Illustrate the benefits of alternative financial models that involve private sector capital.

D. Promote a more efficient environmental review and project development process.

E. Develop corridors that will increase freight system reliability and enhance the quality of life for U.S. citizens.

F. Demonstrate the viability of a transportation investment model based on sound economics and market principles.

Application Process

The application process consists of two phases: The submission of a Corridor Proposal followed by an invitation to submit a formal application. Each phase is discussed below.

A. Phase 1: Corridor Proposal

A State, multiple States or a private entity (Applicant) interested in the CFP should submit a Corridor Proposal to the DOT. The length of the Proposal should not exceed ten single-spaced pages. The Proposal should, in general terms, describe the Corridor, including its purpose, location, preliminary design features, rough estimate of capital cost, proposed delivery schedule, likely financing mechanism(s), traffic trends (on competing corridors if a new corridor is being proposed), and information about the status of agreement among the States to advance the proposed Corridor. Private entities should consult with relevant State transportation agencies and Governors' offices prior to submitting a Proposal. Corridor proposals may include new capacity development or upgrades/extensions of existing capacity, but the proposals should involve two or more States. The Applicant should also state whether the proposed Corridor will cross any Federal or Indian lands. To the extent the proposed Corridor is already in development, the Applicant should describe broadly the remaining activities that must be undertaken.

The Applicant may be requested to submit additional information if more information is needed at this stage. The Applicant should estimate the length of time needed before it would have the necessary information and concurrences needed to submit a detailed Corridor Application, discussed below. The deadline for submitting a Proposal is October 23, 2006. If an Applicant submits a Proposal after the October 23 deadline, the Proposal will be considered to the extent practicable but will not necessarily be eligible to advance to the next step in the Application process during the first phase.

If a Proposal is accepted for the final competition, the Applicant will be invited to submit a Corridor Application, discussed below. The DOT intends to announce the first phase of Corridor Proposals for further consideration by the middle of November 2006.

B. Phase 2: Corridor Application

If an Applicant is invited to submit a Corridor Application (Application) for the CFP, the Application must be received not later than April 2, 2007, unless an extension is granted in writing by the FHWA Chief Counsel at his discretion in response to a written request for an extension. All Federal, State, and Indian tribal governments that own property which will be directly impacted by the proposed Corridor should concur in the Application. The DOT intends to announce the initial CFP Corridors approved for further development after spring 2007.

The Application should address each of the following:

1. Physical Description

The Application should include a detailed description of the proposed interstate transportation Corridor, including a map detailing the Corridor and its connection to existing transportation infrastructure.

2. Congestion Reduction

The proposed Corridor may address current or future congestion in any transportation mode(s). For each mode included in the Application, the Applicant should describe where and how the proposed Corridor would (i) reduce current congestion levels or (ii) address future expected congestion based on projected travel trends and demographic changes in the proposed Corridor. The Applicant should discuss the national impact of the Corridor on freight and/or traffic congestion. The congestion reduction discussion should include all relevant data related to the proposed congestion relief benefits of the Corridor.

3. Mobility Improvements

The Application should describe how the Corridor would provide increased mobility of people and freight. Whether the proposed Corridor is on a new or existing alignment, the Application should explain how transportation technologies would be used to benefit users by reducing congestion and enhancing the mobility and efficiency of the proposed Corridor. Examples of mobility improvements include the use of intelligent transportation systems, traffic conditions monitoring, computerized traffic control systems, traveler information systems, electronic toll collection, and open road tolling.

4. Economic Benefits and Support of Commerce

The Application should explain how the proposed Corridor would support U.S. economic growth. The Application should also provide an estimate of the percentage of overall Corridor traffic that is likely to be freight traffic.

5. Value to the Users of the Corridor

The Application should describe the benefits of the proposed Corridor to its users. Potential benefits include: Reduced travel time; increased safety; faster and more convenient access to intermodal facilities, such as rail and port terminals; faster and more convenient access to terminals for commercial vehicles; environmental benefits; truck-only lanes; and increased travel speeds.

6. Innovations in Project Delivery and Finance

The Application should highlight any innovative project delivery and financing features proposed for the Corridor. The Applicant should address the eligibility of the proposed project for credit assistance under the Transportation Infrastructure Finance Innovation Act (TIFIA) and Private Activity Bonds.

7. Exceptional Environmental Stewardship

The Application should describe any proposed innovative methods for completing the environmental review process effectively, and/or any exceptional proposed measures for avoiding or mitigating air, noise, or water impacts, or impacts to environmental or cultural resources.

8. Finance Plan and Potential Private Sector Participation

The Applicant should submit an initial plan that identifies potential sources of financing and the private sector's likely role. This may include proposals for private sector financial contribution to the proposed Corridor. Private sector participation can encompass a wide range of contractual arrangements by which public (Federal, State, or local) authorities and private entities collaborate in the financing, development, operation, and ownership of a transportation infrastructure project. Potential contractual arrangements for the Corridor include but are not limited to:

a. Long-term concessions or franchise agreements;

b. Design, Build, Operate and Maintain contracts;

c. Design Build Finance Operate contracts;

d. Build Own Operate contracts; and

e. Design Build contracts.

The Applicant should describe the efficiencies likely to result from private sector participation, as well as the process likely to be used to ensure robust competition among private financial entities

9. Proposed Project Time-Line

The Application should include a proposed project time-line with estimated start and completion dates for major elements of the proposed Corridor such as:

a. Development phase activities (planning, feasibility analysis, revenue forecasting, environmental review, preliminary engineering and design work, and other preconstruction activities);

b. Construction, reconstruction, and/or rehabilitation activities; and

c. Acquisition of real property (including land related to the project and improvements to land).

The Application also should describe the results of any preliminary engineering or preconstruction activities done to date and relate it to the project time-line.

CFP Development Agreement

After a Corridor is accepted for administration under the CFP, the next major action would be to work with the coalition of States, municipalities, Indian tribal government(s), and Federal agencies (collectively referred to as the Coalition) to draft a CFP Development Agreement for the Corridor (CFPDA). The CFPDA would address the commitments of all parties to the Corridor (Federal, State, municipal and private) with respect to the financing, planning and design, environmental process, construction, operations, maintenance, and other components of the Corridor. The CFPDA would also identify the specific objectives of the Corridor and performance measures that would be used to evaluate the success of the Corridor in achieving these objectives.

DOT Resources and Commitments To Expedite the Delivery of the Corridor

If a Corridor is selected for participation in the CFP, the DOT will work with the Coalition to expedite the delivery of the Corridor. Potential DOT resources and commitments include:

A. Coordination of a More Efficient Environmental Review Process

Corridors selected for the CFP may request to be added to the Secretary of Transportation's list of high-priority transportation infrastructure projects under Executive Order 13274, “Environmental Stewardship and Transportation Infrastructure Project Review.” For these projects, Federal agencies shall to the maximum extent practicable expedite their reviews for relevant permits or other approvals, and take related actions as necessary, consistent with available resources and applicable laws. Information about Executive Order 13274 is available on the following Web site: http://environment.fhwa.dot.gov/strmlng/index.asp.

B. Accelerated Review and Conditional Approval of Experimental Features Under the FHWA SEP-15 Process

Special Experimental Project 15 (SEP-15) is designed to permit tests and experimentation in the project development process for title 23, United States Code projects. Potential areas of experimentation for CFP projects include commercialization of rights-of-way for new facilities, innovative finance, tolling and contracting requirements. More information about the SEP-15 program is available on the following Web site: http://www.fhwa.dot.gov/ppp/index.htm. The Department is considering further experimental programs that may apply to the approved Corridors.

C. Expedited Commitment Process for TIFIA Credit Assistance

The TIFIA program provides 3 forms of credit assistance—secured loans, loan guarantees, and standby lines of credit—for surface transportation projects of national or regional significance. Each Coalition seeking to incorporate TIFIA credit assistance as part of a Corridor finance plan can receive a preliminary TIFIA commitment under SEP-15.

The DOT would work with each Coalition to establish a preliminary plan of finance incorporating TIFIA assistance. This preliminary commitment would expedite the loan review process to be undertaken should the Coalition's selected concessionaire seek TIFIA assistance. Information about the TIFIA credit program is available on the following Web site: http://tifia.fhwa.dot.gov/.

D. Conditional Approval for Private Activity Bonds

Upon application for private activity bonds (PABs) under Section 11143 of the Safe, Accountable, Flexible, Efficient Transportation Equity Act: A Legacy for Users (SAFETEA-LU) (Pub. L. 109-59; Aug. 10, 2005), projects selected for the CFP may be granted conditional approval for PABs. Section 11143 amended the Internal Revenue Code (IRC) by adding a new exempt highway category to section 142 of the IRC, “Qualified Highway or Surface Transportation Facilities.” Bonds issued to provide for construction of Qualified Highway or Surface Transportation Facilities must satisfy Internal Revenue Code requirements associated with exempt facilities.

Private Activity Bonds are not subject to the general volume cap limitation for exempt facility bonds; however, they are subject to a nationwide $15 billion limitation that is allocated by the Secretary of Transportation. Subject to the project qualifying as an exempt highway or surface transportation facility project, the project's submission of a successful application for PAB authority, and subject to selection for the CFP, the Secretary will conditionally allocate a portion of the nationwide qualified highway or surface transportation limitation to a Corridor project to facilitate its financing and construction.

E. Priority to Tolling Programs

Projects selected for the CFP will be granted priority under the limited toll programs contained in the Intermodal Surface Transportation Efficiency Act of 1991 (ISTEA) (Pub. L. 102-240; Dec. 18, 1991), the Transportation Equity Act for the 21st Century (TEA-21) (Pub. L. 105-178; June 8, 1998), or SAFETEA-LU. Additionally, the DOT may consider using its experimental authority under SEP-15, or any other experimental programs that may apply, to grant flexibility with respect to tolling.

F. Access to DOT Experts

Coalitions accepted for the CFP will have access to DOT experts knowledgeable in the areas of planning, the environment, public-private partnerships, finance, construction, safety, operations, and asset management.

G. Other Discretionary Funding

The DOT will work with Applicant(s) to identify other possible discretionary funding sources.

Authority: 49 U.S.C. § 101.

Issued on: August 24, 2006.
Maria Cino,
Acting Secretary.

[FR Doc. E6-14634 Filed 9-1-06; 8:45 am]

BILLING CODE 4910-22-P